COMMISSION ON CIVIL RIGHTS

Sunshine Act Notice

AGENCY: United States Commission on Civil Rights.

ACTION: Notice of briefing.

Date and Time: Friday, November 9, 2007; 9:30 a.m.

Place: U.S. Commission on Civil Rights, 624 Ninth Street, NW., Rm. 540, Washington, DC 20425.

Briefing Agenda

Briefing on Minorities in Foster Care and Adoption

I. Introductory Remarks by Chairman

II. Speakers' Presentations

III. Questions by Commissioners and Staff Director

IV. Adjourn

CONTACT PERSON FOR FURTHER INFORMATION: Sock Foon MacDougall, Press and Communications (202) 376-8582.

Dated: October 30, 2007.
David Blackwood,
General Counsel.

[FR Doc. 07-5458 Filed 10-30-07; 1:05 pm]

BILLING CODE 6335-01-P